DEPARTMENT OF STATE

[Delegation of Authority No. 601]

Delegation of Authority; Cyberspace and Digital Policy

By virtue of the authority vested in the Secretary of State by the laws of the United States, including section 1(a)(4) of the State Department Basic Authorities Act (22 U.S.C. 2651a(a)(4)) and the authorities hereinafter mentioned, I hereby delegate to the Ambassador at Large for Cyberspace and Digital Policy, to the extent authorized by law, the authorities and functions vested in the Secretary of State by 22 U.S.C. 2707 and the following authorities:

1. Section IV of E.O. 10530 of May 10, 1954, regarding the authority to grant or revoke approval of submarine cables;

2. E.O. 13873 of May 15, 2019, Securing the Information and Communications Technology and Services Supply Chain;

3. Section 3 of E.O. 13913 of April 4, 2020, relating to the function of advisor to the Committee for the Assessment of Foreign Participation in the United States Telecommunications Services Sector;

4. E.O. 14117 of February 28, 2024, Preventing Access to Americans' Bulk Sensitive Personal Data and United States Government-Related Data by Countries of Concern; and

5. Section 2 of the Memorandum on the Delegation of Authority Under the Protecting Americans from Foreign Adversary Controlled Applications Act, relating to the President's authorities under Division H of Public Law 118-50.

The Secretary, Deputy Secretary, Deputy Secretary for Management and Resources, and the Under Secretary for Economic Growth, Energy, and the Environment may also exercise any function or authority delegated herein. Any reference in this delegation of authority to a statute shall be deemed to be a reference to such statute as amended from time to time. These authorities may be re-delegated to the extent authorized by law. Delegation of Authority 541, dated May 21, 2023, is hereby rescinded. No other delegation of authority is affected by this action.

This delegation of authority will be published in the Federal Register.

Dated: September 21, 2025
Marco Rubio,
Secretary of State.

[FR Doc. 2025-20978 Filed 11-24-25; 8:45 am]

BILLING CODE 4710-10-P